DEPARTMENT OF LABOR

Employment and Training Administration

[TA-W-54,658]

Whiting Manufacturing Company, Inc., Hazel Green, KY; Notice of Revised Determination on Reconsideration Regarding Eligibility To Apply for Alternative Trade Adjustment Assistance

By letter dated May 17, 2004, a company official requested administrative reconsideration regarding Alternative Trade Adjustment Assistance (ATAA). The certification of Trade Adjustment Assistance eligibility was signed on April 23, 2004. The Department's notice was published in the Federal Register on June 2, 2004 (69 FR 31137).

The initial investigation determined that the workers possessed skills that are easily transferable.

A careful review of new and existing information revealed that a significant number of workers in the subject company are age fifty or older and that the workers possess skills that are not easily transferable. Competitive conditions within the industry are adverse.

Conclusion

After careful review of the additional facts obtained on reconsideration, I conclude that the requirements of Section 246 of the Trade Act of 1974, as amended, have been met for workers at the subject firm.

In accordance with the provisions of the Act, I make the following certification:

All workers of Whiting Manufacturing Company, Inc., Hazel Green, Kentucky, who became totally or partially separated from employment on or after April 1, 2003, through April 23, 2006, are eligible to apply for alternative trade adjustment assistance under Section 246 of the Trade Act of 1974.

Signed in Washington, DC this 7th day of June 2004.
Elliott S. Kushner,
Certifying Officer, Division of Trade Adjustment Assistance.

[FR Doc. 04-14916 Filed 6-30-04; 8:45 am]

BILLING CODE 4510-30-P